DEPARTMENT OF LABOR

Employment and Training Administration

Proposed Information Collection Request Submitted for Public Comment and Recommendations; ETA Management Information and Longitudinal Evaluation (EMILE) Reporting System

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, the reporting burden (time and financial resources) is minimized, the collection instruments are clearly understood, and the impact of collection requirements on respondents can be properly assessed. The Employment and Training Administration (ETA) is soliciting comments on the establishment of a single, streamlined reporting and recordkeeping system, formally called the ETA Management Information and Longitudinal Evaluation (EMILE) reporting system, to replace the current data collection and reporting requirements for the following 12 employment and training programs: Employment Service (ES) program, including reports for the Veterans Employment and Training Service (VETS) program, Workforce Investment Act (WIA) Title I-B Adult program, Dislocated Worker program, and Youth program, National Emergency Grant (NEG) program, Trade Adjustment Assistance program, National Farm Worker Jobs Program (NFJP), Indian and Native American program, Senior Community Service Employment Program (SCSEP), H-1B Technical Skills Training grant (H-1B) program, and the Responsible Reintegration of Youth Offenders program.

DATES: Submit comments on or before September 14, 2004.

ADDRESSEE: Send comments to: Ms. Esther Johnson, Performance and Results Office, Employment and Training Administration, U.S. Department of Labor, 200 Constitution Avenue NW., Room S-5206, Washington, DC 20210; telephone: (202) 693-3420 (this is not a toll-free number); fax: (202) 693-3490; e-mail: ETAperforms@dol.gov.

FOR FURTHER INFORMATION CONTACT: Ms. Karen Staha, Performance and Results Office, Employment and Training Administration, U.S. Department of Labor, 200 Constitution Avenue NW., Room S-5206, Washington, DC 20210; telephone: (202) 693-3420 (this is not a toll-free number); fax: (202) 693-3490; e-mail: ETAperforms@dol.gov.

SUPPLEMENTARY INFORMATION:

I. Background

This is a request by ETA to replace current quarterly reporting requirements for 12 ETA programs with a single, streamlined system of reporting performance results. In 2002, under the President's Management Agenda, the Office of Management and Budget (OMB) and other Federal agencies developed common performance measures to be applied to certain Federally-funded programs with similar strategic goals. As part of this initiative, ETA issued Training and Employment Guidance Letter (TEGL) 15-03, Common Measures Policy. This policy guidance, however, becomes effective only when it is implemented through changes to the program reporting systems. The proposed EMILE reporting system streamlines 12 ETA program reporting systems into one comprehensive reporting structure that will allow for consistent, comparable analysis across ETA funded employment and training programs, using the definitions for common measures established in TEGL 15-03.

States and other grantees are currently required to submit separate performance reports for each of the programs they administer. There are no standard forms, definitions, instructions, or submission procedures. In some instances, there is confusion regarding the time periods used for calculating program performance, what data are to be reported, and how the data are prepared for submission to the Department on a timely basis. The lack of standardized data collection and report preparation procedures imposes a burden on grantees that seek to coordinate service delivery and performance measurement in a local One-Stop environment. Equally important, these reporting inconsistencies frustrate many of the Department's stakeholders and the general public at large who want to understand how to interpret ETA program performance results and access the most up-to-date performance information to effectively inform program planning and accountability and resource allocation decisions.

The need for a comprehensive and standardized reporting system was also underscored in reviews conducted by external oversight agencies, including the Department's Office of Inspector General and the General Accounting Office. These oversight agencies have questioned the validity and comparability of data reported by ETA to Congress. To address these issues, ETA is using its statutory and regulatory authority to redesign and strengthen its various program performance reporting systems into a single comprehensive system, formally called the ETA Management Information and Longitudinal Evaluation (EMILE) reporting system, to replace the current quarterly reporting requirements of 12 employment and training programs. This comprehensive reporting structure features a single quarterly report format and establishes a common language that will standardize data collection for program participants and employer customers, based on a core set of information for all program customers. These standardized individual records will include information on demographic characteristics, type of services received, and common measures of outcomes defined consistently across all programs. In some cases, additional data collection requirements are necessary for federal oversight or to comply with existing statutory requirements, and these are also included in the proposed EMILE reporting system.

The EMILE reporting system consists of three components:

(1) A Workforce Investment Quarterly Summary Report that provides aggregate performance information on program participants, participants who exit the program, and performance outcomes for the most recent four-quarter period. This rolling four-quarter data collection methodology provides ETA and the grantees with greater flexibility in discussing annual performance results according to any four-quarter reporting period (e.g., Calendar Year, Program Year, and Federal Fiscal Year). The quarterly report format has been designed in such a way that grantees who administer multiple ETA grants can utilize a single report format to certify program accomplishments on a quarterly basis. This uniform report format will not only help facilitate consistent performance calculations and reporting by grantees, but provide management information to the Administration, Congress and other stakeholders that focus on the core functions of the workforce system: employment for adults and skills for youth.

(2) An Employer Individual Record that provides a list of standardized data elements, definitions, and specifications that are considered important to the management of the programs and the provision of services to employer customers. The use of an employer individual record reflects the current focus on becoming more demand-driven as an effective way to provide good career opportunities for job seekers and improve economic conditions. Information contained on the employer individual record will provide a more complete picture of the total impact of the One-Stop system by including the characteristics of employers served and the type and frequency of services being delivered; and

(3) A Job Seeker Individual Record that provides a list of standardized data elements, definitions, and specifications that can be used to describe the characteristics, services and activities, and outcomes of job seekers across ETA programs. This individual record incorporates data needed to calculate common measures defined in TEGL 15-03 as well as other statutorily required indicators of performance, and establishes a common language that will standardize data collection for program participants, based on a core set of information for all job seeker customers. The job seeker individual record has been designed in such a way that grantees who administer multiple ETA grants can utilize this single record layout to report additional characteristics, services and activities, and outcomes for the same program customer. Information contained on the job seeker individual record will facilitate meaningful evaluation, realistic planning, and effective management of ETA funded programs.

The EMILE Handbook provides detailed reporting specifications and instructions on each of the three reporting system components. It is available at http://www.doleta.gov/performance or by requesting an electronic copy through e-mail at ETAperforms@dol.gov or by contacting the office listed in the FOR FURTHER INFORMATION CONTACT section of this notice.

The EMILE reporting system will ensure there is consistency across all ETA programs so all programs are evaluated using the same criteria. When job seeker and employer data are collected, maintained and reported consistently and accurately at a basic level (e.g., grantee field office or One-Stop Career Center), data can be aggregated from each program and reported to higher levels with greater confidence that the data are comparable from customer to customer, from program to program, and from year to year. EMILE also incorporates provisions to ensure the integrity of reported data, and resolve data collection and reliability issues raised by OIG and GAO regarding the Department's ability to accurately evaluate program performance. The quarterly report and standardized individual records contained within the proposed EMILE reporting system will replace the following 21 ETA reports: ETA 9090 WIA Quarterly Report; WIA Customer Satisfaction Survey; WIA Standardized Record Data; ES 9002 A, B, C, D, and E Quarterly Reports; ES Customer Satisfaction Survey; VETS 200 A, B, and C Quarterly Reports; ETA 563 Quarterly Determinations, Allowance Activities, and Reemployment Services Under the Trade Act Report; Trade Act Participant Report; ETA 9095—Section 167 NFJP Status Report; ETA 9098—Section 167 NFJP Youth Status Report; WIA Standardized Program Report; ETA 5140 Quarterly Progress Report; SCSEP Customer Service Survey; ETA 9084 Comprehensive Services Program Report; and ETA 9085 Supplemental Youth Program Report. The EMILE reporting system will also establish quarterly reporting requirements for the H-1B, NEG, and Responsible Reintegration of Youth Offenders grant program.

While the proposed standardized individual records and quarterly report represent a comprehensive data collection and reporting approach, it is important to note that every effort has been made to establish common data definitions and formats with minimum burden to grantees. At its foundation, the proposed reporting structure organizes information that is maintained by states and grantees in order to run their day-to-day operations. The proposal streamlines and makes consistent information that ETA currently collects from states and grantees. The proposal describes a minimum level of information collection that is necessary to comply with Equal Opportunity requirements, hold states and grantees appropriately accountable for the Federal funds they receive, including common measures, and allow the Department to fulfill its oversight and management responsibilities.

Administration of Federal grant programs does result in a data collection and reporting burden on states and grantees. ETA has developed strategies to minimize this burden on grantees, especially smaller grantees who may have limited access to technology. First, the Department will work closely with the grantees to establish a transition plan for each program, to phase out prior reporting requirements to be replaced by EMILE once these new reporting requirements have been approved by OMB. A key component of this transition plan will include use of the Department's existing resources to provide staff training and technical assistance on the new report specifications. Second, the Department will enhance its current electronic reporting system and technology infrastructure to accommodate the new report specifications. Third, because grantees are required to utilize wage records in order to calculate OMB common measures, the Department will continue its financial commitment for the national Wage Record Interchange System (WRIS) as well as other mechanisms that will support grantee access to wage records maintained by Federal agencies. And finally, to reduce startup costs related to implementing EMILE, the Department is planning to update standardized reporting and validation software and instructional handbooks, which may be used by grantees in calculating and electronically submitting the quarterly summary performance report and individual records.

II. Desired Focus of Comments

Currently, ETA is soliciting comments concerning the proposed new collection of information under the EMILE reporting system. A copy of the proposed information collection request can be obtained by contacting the office listed above in the ADDRESSES section of this notice. The Department is particularly interested in comments that address the following areas about the EMILE reporting and recordkeeping specifications:

• Evaluate whether the proposed collection of information is necessary for the proper performance of the functions of the agency, including whether the information will have practical utility;

• Evaluate the accuracy of the agency's estimate of the burden of the proposed collection of information, including the validity of the methodology and assumptions used;

• Discuss how to enhance the quality, utility, and clarity of the information to be collected; and

• Suggest how to minimize the burden of the collection of information on those who are to respond, including through the use of appropriate automated, electronic, mechanical, or other technological collection techniques or other forms of information technology (e.g., permitting electronic submissions of responses).

With regard to the Agency's estimate of the burden of the proposed collection of information, ETA is particularly interested in receiving public comments on the efficacy of collecting a statistically valid sample of individual records for each program instead of all individual records. The Agency would also like to receive public comments regarding the collection of additional information on the types of disability of people being served in the One-Stop. More specifically, if a person indicates that he/she has a disability, that person would also be given the opportunity to voluntarily disclose whether he/she has any one or more of the following types of disability that substantially limits one or more major life activities: Specific learning disability, hearing impairment, visual impairment, speech impairment, cognitive impairment, orthopedic impairment, mental/emotional/psychological impairment, drug addiction or alcoholism, or other types of disability. ETA believes that collection of types of disability will have practical utility for focusing on, and evaluating the effectiveness of its programs in serving persons with a disability through the One-Stop system.

In summary, ETA's proposed reporting system, EMILE, is intended to: (1) Eliminate 12 disparate ETA program reporting requirements and replace them with a single performance reporting system that will enable consistent measurement and understanding of the overall effectiveness of ETA programs in helping job seekers find meaningful employment and in helping employers find workers, (2) implement standardized data collection and report submission procedures that will allow for consistent, comparable analysis across ETA funded employment and training programs, using the definitions for common measures established in TEGL 15-03, (3) collect management information in order to more fully understand how the populations served and services provided through each program impact performance outcomes, (4) collect participant information quarterly so the workforce system can respond more quickly and effectively to the oversight and management needs of Congress, the Administration and the general public, (5) ensure that performance information is accurate and reliable, and (6) support the establishment of a demand-driven system by organizing information on services used by employer customers.

III. Current Actions

Type of Review: New.

Agency: Department of Labor, Employment and Training Administration.

Title: ETA Management Information and Longitudinal Evaluation (EMILE) Reporting System.

OMB Number: 1295-ONEW.

Recordkeeping: Three years for States and grantees.

Affected Public: Individuals or households, business or other for-profit, not-for-profit institutions, Federal, State, local or tribal government.

Cite/Reference/Form/etc: Workforce Investment Act of 1998, Wagner-Peyser Act, Trade Adjustment Assistance Act, Older Americans Act, Jobs for Veterans Act, American Competitiveness in the Twenty-First Century Act of 2000, see table below for list of forms.

Total Respondents: 590 States and grantees.

Frequency: Quarterly.

Total Responses: 4,928 submissions annually—each State and grantee submits job seeker individual records and a quarterly summary report each quarter for each program. Each State also submits employer individual records each quarter.

Average Time per Response: Varies by program and by submission (individual record or quarterly summary report).

Estimated Total Burden Hours:

Form/activity | Total respondents | Frequency | Total annual responses | Total annual hours | Average annual hours/response
Job Seeker Individual Record | 590 states, territories, and grantees | Quarterly | 2,360 | 831,835 | 353
Employer Record | 52 states, and territories | Quarterly | 208 | 832 | 4
Quarterly Summary Report | 590 states, territories, and grantees | Quarterly | 2,360 ¹ | 11,800 | 5
Customer Satisfaction | 303 states, territories, and grantees | Quarterly | Included in Quarterly Summary Report | 44,596 | 19
Totals | 590 (unduplicated count of all respondents) | Quarterly | 4,928 | 889,063 | 180
¹ Customer satisfaction results are reported in the Quarterly Summary Report.

Total Burden Cost (capital/startup): $4,576,260.

Total Burden Cost (operating/maintaining): $26,019,500.

Comments submitted in response to this notice will be summarized and/or included in the request for OMB approval of the information collection request; they will also become a matter of public record.

Signed in Washington, DC, on July 13, 2004.
Emily Stover DeRocco,
Assistant Secretary for Employment and Training.

[FR Doc. 04-16175 Filed 7-15-04; 8:45 am]

BILLING CODE 4510-30-P